ENVIRONMENTAL PROTECTION AGENCY

[EPA-HQ-OLEM-2018-0200, FRL-9669-01-OMS]

Information Collection Request Submitted to OMB for Review and Approval; Comment Request; Final Authorization for Hazardous Waste Management Programs (Renewal)

AGENCY: Environmental Protection Agency.

ACTION: Notice.

SUMMARY: The Environmental Protection Agency (EPA) has submitted an information collection request (ICR), Final Authorization for Hazardous Waste Management Programs (EPA ICR Number 0969.12, OMB Control Number 2050-0041) to the Office of Management and Budget (OMB) for review and approval in accordance with the Paperwork Reduction Act. This is a proposed extension of the ICR, which is currently approved through May 31, 2022. Public comments were previously requested via the Federal Register on September 28, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 18, 2022.

ADDRESSES: Submit your comments, referencing Docket ID No. EPA-HQ-OLEM-2018-0200, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Peggy Vyas, Environmental Protection Agency, 1200 Pennsylvania Ave. NW, Washington, DC 20460; telephone number: 202-566-0453; email address: vyas.peggy@epa.gov.

SUPPLEMENTARY INFORMATION: Supporting documents, which explain in detail the information that the EPA will be collecting, are available in the public docket for this ICR. The docket can be viewed online at www.regulations.gov. For further information and updates on EPA Docket Center services, please visit us online at https://www.epa.gov/dockets. The telephone number for the Docket Center is 202-566-1744.

Abstract: In order for a State to obtain final authorization for a State hazardous waste program or to revise its previously authorized program, it must submit an official application to the EPA Regional office for approval. The purpose of the application is to enable the EPA to properly determine whether the State's program meets the requirements of § 3006 of RCRA. A State with an approved program may voluntarily transfer program responsibilities to EPA by notifying the EPA of the proposed transfer, as required by section 271.23. Further, the EPA may withdraw a State's authorized program under section 271.23.

State program revision may be necessary when the controlling Federal or State statutory or regulatory authority is modified or supplemented. In the event that the State is revising its program by adopting new Federal requirements, the State shall prepare and submit modified revisions of the program description, Attorney General's statement, Memorandum of Agreement, or such other documents as the EPA determines to be necessary. The State shall inform the EPA of any proposed modifications to its basic statutory or regulatory authority in accordance with section 271.21. If a State is proposing to transfer all or any part of any program from the approved State agency to any other agency, it must notify the EPA in accordance with section 271.21 and submit revised organizational charts as required under section 271.6, in accordance with section 271.21. These paperwork requirements are mandatory under § 3006(a). The EPA will use the information submitted by the State in order to determine whether the State's program meets the statutory and regulatory requirements for authorization.

Form Numbers: None.

Respondents/affected entities: State/territorial governments.

Respondent's obligation to respond: Mandatory (RCRA § 3006(a)).

Estimated number of respondents: 50.

Frequency of response: Annual.

Total estimated burden: 10,794 hours per year. Burden is defined at 5 CFR 1320.03(b).

Total estimated cost: $427,536 (per year), includes $0 annualized capital or operation & maintenance costs.

Changes in the Estimates: There is an increase in annual burden for this renewal of 798 hours. The reason for this increase is an increase in the number of revision applications from 6 to 7. EPA expects that a greater number of states will seek to revise their authorization and receive approval from EPA due greater emphasis on increasing authorization progress and recent high profile rulemakings.

Courtney Kerwin,
Director, Regulatory Support Division.

[FR Doc. 2022-05702 Filed 3-17-22; 8:45 am]

BILLING CODE 6560-50-P